DEPARTMENT OF THE INTERIOR

Fish and Wildlife Service

[FWS-HQ-FAC-2026-N065; FXFR13360900000-267-FF09F14000]

Draft Revised National Management and Control Plan for New Zealand Mudsnail

AGENCY: Fish and Wildlife Service, Interior.

ACTION: Notice of availability; request for comments.

SUMMARY: The U.S. Fish and Wildlife Service announces the availability of the draft revised National Management and Control Plan for New Zealand Mudsnail (2026 NZMS plan). We invite comment from the public and local, State, Tribal, Federal agencies, and other relevant parties.

DATES: Written comments must be received on or before April 13, 2026.

ADDRESSES:

Obtaining Documents: An electronic copy of the draft revised 2026 NZMS plan is available at https://www.fws.gov/media/draft-revised-national-management-and-control-plan-new-zealand-mudsnail.

Submitting Written Comments: Please send written comments using one of the following methods:

• Email (preferred method): anstaskforce@fws.gov. Please include your name and return mailing address in your email message.

• U.S mail: U.S. Fish and Wildlife Service Headquarters Office, Aquatic Nuisance Species Task Force; 5275 Leesburg Pike; Falls Church, VA 22041-3803 (Attn: Donald MacLean, Fish and Aquatic Conservation, USFWS HQ—MS:FAC).

FOR FURTHER INFORMATION CONTACT: Susan Pasko, Executive Secretary, Aquatic Nuisance Species Task Force, by email at susan_pasko@fws.gov, or via phone at (571) 623-0608. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

The Aquatic Nuisance Species Task Force (ANSTF) is an intergovernmental organization dedicated to preventing and controlling aquatic nuisance species (ANS) and coordinating governmental efforts of the United States with the private sector and other North American interests. The ANSTF was established by Congress with the passage of the Nonindigenous Aquatic Nuisance Prevention and Control Act of 1990 (NANPCA; Pub. L. 101-646, 104 Stat. 4761, 16 U.S.C. 4701-4741), and reauthorized with the passage of the National Invasive Species Act of 1996 (NISA; Pub. L. 104-332, 110 Stat. 4073). Section 1201(d) of NANPCA designates the Undersecretary of Commerce for Oceans and Atmosphere and the Director of the U.S. Fish and Wildlife Service as the ANSTF co-chairpersons. The ANSTF is regulated by the Federal Advisory Committee Act of 1972 (5 U.S.C. Ch. 10), which provides the ANSTF with its core structure and ensures an open and public forum for its activities. Membership of the ANSTF consists of 13 Federal agency representatives and 12 representatives from ex-officio member organizations who work in conjunction with 6 regional panels and issue-specific subcommittees to meet the challenges of developing and implementing a coordinated and complementary Federal program for ANS activities.

The NANPCA (as amended by NISA, 1996) establishes that the ANSTF is responsible for coordination of national efforts to prevent the introduction and spread of ANS. These responsibilities include the development of species management and control plans for high-risk invasive species. These plans focus on tasks that are essential to prevent spread into additional habitats and minimize the impact to areas where the species have already invaded. The plans are developed through a cooperative process and undergo review by the ANSTF members and regional panels. Successful implementation of these plans requires the participation of States, regional and Tribal entities, Federal agencies, and other relevant parties.

History of the National New Zealand Mudsnail Management and Control Plan

The New Zealand mudsnail (NZMS; Potamopyrgus antipodarum) is not native to the United States. The species causes economic and environmental harm; thus, it is considered an invasive species. This species was first detected in North America in the Snake River Basin (Idaho) in 1987, with a second population identified in Lake Ontario (New York) in 1991. By 2007, NZMS were established in all the western states except New Mexico, Alaska, and Hawaii, as well as in Lake Ontario, Lake Superior, and Lake Erie in the Great Lakes region. Recognizing the species' potential for negative ecological, economic, and cultural impacts and its expanding geographic range, the ANSTF initiated the formation of a NZMS control committee, which developed the first National Management and Control Plan for New Zealand Mudsnail (2007 NZMS plan), which was approved by the ANSTF in 2007. For 17 years, the plan guided natural resource managers on NZMS management and served as a reference for regional efforts. The spread of NZMS, however, has continued in the West. In the Eastern United States, the extent of the spread appears to be less, or at least less documented and reported. NZMS have yet to be detected in the Plains, Gulf, and South Atlantic States, and Alaska and Hawaii.

In June 2021, the ANSTF Control Subcommittee recommended that the 2007 NZMS plan be updated to reflect the current knowledge, range, and control options of the species. In 2022, the NZMS Working Group was re-established to revise and update the 2007 NZMS plan. Input on development of the updated plan was sought through multiple forums and, where appropriate, incorporated into the draft revised 2026 NZMS plan.

The draft 2026 NZMS plan was submitted to the ANSTF on November 7, 2024, and was approved to be announced via the Federal Register for public comment. Distribution of the 2026 NZMS plan for public comment, and the consideration of comments received, are the final steps before the ANSTF can consider the plan for final approval (NANPCA).

Proposed Updates to the 2007 Management and Control Plan for the New Zealand Mudsnail

This revised plan is necessary to guide protection of the remaining uninfested waters of the United States, using continued prevention efforts, containment of NZMS in infested waters and facilities, and, where feasible, population suppression and eradication. While the geographic scope of the plan is focused on the continental United States and Hawaii, the objectives and actions identified within the plan may also be applicable to the U.S. unincorporated territories and outlying islands.

NZMS can tolerate a wide range of environmental conditions and produce many offspring, resulting in extremely dense populations when favorable conditions are present. Dense colonies of NZMS outcompete other aquatic organisms for forage and space, leading to declines in native biodiversity. By consuming vast amounts of organic matter and algae, NZMS alter nutrient cycling processes in aquatic systems, potentially reducing water quality. Directly impacted organisms include native mollusks (snails, mussels, and clams), as well as macroinvertebrates and periphyton (organisms that attach to underwater surfaces, such as algae, microbes, etc.) that serve as a primary food source for a wide range of aquatic organisms, including fish and amphibians. The U.S. Fish and Wildlife Service's 2015 Ecological Risk Screening Summary for the New Zealand Mudsnail (Potamopyrgus antipodarum) predicts that West, Midwest, and Northeast regions of the contiguous United States are suitable for NZMS based on the known infested range, history of invasiveness, and climate matching analysis.

The 2026 NZMS plan reassesses, identifies, and prioritizes NZMS management actions for 2026 and beyond, based on the collective knowledge and experience gained over the past 17 years. In addition, it provides the current known distribution of NZMS in the United States and information about past and current containment efforts. This plan serves as a resource for information on NZMS prevention, containment, and control for those developing prevention programs, proactively planning, or responding to a NZMS detection. In all circumstances, responses to NZMS are optimized when tailored to the unique environmental setting and efforts are collaborative and coordinated relative to the diverse interests and authorities underlying the management of ANS.

While important information gaps remain, collective experience has allowed the working group to revisit and refine the 2007 plan, which now includes 3 goals, 6 objectives, 19 specific strategies, and 46 actions to prevent the further spread of NZMS and suppress existing populations. Specifically, the goals of the plan are as follows:

A. Protect native species, their habitats, environmental quality, and the economy from negative impacts resulting from NZMS.

B. Equip and mobilize all entities that have relevant authorities, responsibilities, and/or interests in avoiding and mitigating the spread and impacts of NZMS.

C. Establish a framework for the ANSTF to lead efforts and collaborate with States, Tribes, and local agencies to respond to and minimize the impacts of NZMS.

While the goals of the 2007 NZMS plan were focused on identification and development of actions, the 2026 NZMS plan emphasizes the continued implementation of actions in regions where NZMS are known to be present, as well as engagement and action in regions where NZMS have limited, or unknown, distributions.

Public Availability of Comments

Before including your address, phone number, email address, or other personal identifying information in your comment, you should be aware that your entire comment, including your personal identifying information, may be made publicly available at any time. While you can ask us in your comment to withhold your personal identifying information from public view, we cannot guarantee that we will be able to do so.

Authority

This document is published under the authority of the Nonindigenous Aquatic Nuisance Prevention and Control Act of 1990 (NANPCA; Pub. L. 101-646, 104 Stat. 4761, 16 U.S.C. 4701-4741), as reauthorized with the passage of the National Invasive Species Act of 1996 (NISA; Pub. L. 104-332, 110 Stat. 4073).

Martha Balis-Larsen,
Acting Co-chair, Aquatic Nuisance Species Task Force.

[FR Doc. 2026-03819 Filed 2-25-26; 8:45 am]

BILLING CODE 4333-15-P